JUDICIAL CONFERENCE OF THE UNITED STATES

Advisory Committee on Evidence Rules; Meeting of the Judicial Conference

AGENCY: Judicial Conference of the United States.

ACTION: Advisory Committee on Evidence Rules; revised notice of open meeting.

SUMMARY: The Advisory Committee on Evidence Rules will hold a meeting virtually on November 5, 2025, rather than in New Orleans, LA, as previously announced. The meeting is open to the public only for remote observation with no participation. Please see the SUPPLEMENTARY INFORMATION section in this notice for instructions on observing the meeting.

DATES: November 5, 2025.

ADDRESSES: An agenda and supporting materials will be posted at least 7 days in advance of the meeting at: https://www.uscourts.gov/forms-rules/records-rules-committees/agenda-books.

FOR FURTHER INFORMATION CONTACT: Carolyn A. Dubay, Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

SUPPLEMENTARY INFORMATION: Remote registration is available until the meeting date, provided it is completed before the projected end time. The announcement for this meeting was previously published in the Federal Register on September 2, 2025 at 90 FR 42446.

(Authority: 28 U.S.C. 2073.)

Dated: October 22, 2025.
Shelly L. Cox,
Management Analyst, Rules Committee Staff.

[FR Doc. 2025-19660 Filed 10-24-25; 8:45 am]

BILLING CODE 2210-55-P